DEPARTMENT OF TRANSPORTATION

Federal Aviation Administration

Fourth Meeting: RTCA Special Committee 231, TAWS

AGENCY: Federal Aviation Administration (FAA), U.S. Department of Transportation (DOT).

ACTION: Meeting Notice of RTCA Special Committee 231, TAWS-GPWS.

SUMMARY: The FAA is issuing this notice to advise the public of the fourth meeting of the RTCA Special Committee 231, TAWS-GPWS.

DATES: The meetings will be held June 9-11, 2015 from 9:00 a.m.-5:00 p.m.

ADDRESSES: The meetings will be held at RTCA Headquarters, RTCA, Inc., 1150 18th Street NW., Suite 910, Washington DC 20036.

FOR FURTHER INFORMATION CONTACT: The RTCA Secretariat, 1150 18th Street NW., Suite 910, Washington, DC, 20036, or by telephone at (202) 330-0652/(202) 833-9339, fax at (202) 833-9434, or Web site at http://www.rtca.org.

SUPPLEMENTARY INFORMATION: The FAA Next Gen offices have had unexpected logistical delays, which prevented this Notice of Meeting from publishing 15 days in advance of the meeting.

Pursuant to section 10(a) (2) of the Federal Advisory Committee Act (Pub. L. 92-463, 5 U.S.C., App.), notice is hereby given for a meeting of Special Committee 231. The agenda will include the following:

June 9th—9:00 a.m.-5:00 p.m.

• Welcome/Introduction

• Administrative Remarks

• Agenda Review

• Summary of Working Group activities

• Other Business

• Date and Place of Next Meeting

June 10th—9:00 a.m.-5:00 p.m.

• Continuation of Plenary or Working Group Session

June 11th—9:00 a.m.-3:00 p.m.

• Continuation of Plenary or Working Group Session

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 28, 2015.
Mohannad Dawoud,
Management Analyst, NextGen, Program Oversight and Administration, Federal Aviation Administration.

[FR Doc. 2015-13377 Filed 6-1-15; 8:45 am]

BILLING CODE 4910-13-P